DEPARTMENT OF AGRICULTURE

Forest Service

California Coast Provincial Advisory Committee

AGENCY: Forest Service, USDA.

ACTION: Notice of meeting.

SUMMARY: The California Coast Provincial Advisory Committee (CCPAC) will meet for one day on January 25, 2007, in Eureka California. The purpose of the meeting is to discuss issues relating to implementing the Northwest Forest Plan (NWFP).

DATES: The meeting will be held from 9 a.m. to 5 p.m. on January 25, 2007.

ADDRESSES: Six Rivers National Forest, Supervisor's Office, 1330 Bayshore Way, Eureka, California.

FOR FURTHER INFORMATION CONTACT: Kathy Allen, Committee Coordinator, USDA, Six Rivers National Forest, 1330 Bayshore Way, Eureka, CA 95501 (707) 441-3557 or kmallen@fs.fed.us.

SUPPLEMENTARY INFORMATION: Agenda topics to be covered include: (1) Woody Biomass; (2) Future of the CCPAC; (3) Survey and Manage Update; (4) NWFP 10 Year Monitoring Review; and (5) New Mexico Forest Restoration Principles.

The meeting is open to the public. Public input opportunity will be provided and individuals will have the opportunity to address the Committee at that time.

Dated: December 29, 2006.
Jean Hawthorne,
Acting Forest Supervisor.

[FR Doc. 07-11 Filed 1-5-07; 8:45 am]

BILLING CODE 3410-02-M